ENVIRONMENTAL PROTECTION AGENCY

[FRL-7136-9]

Agency Information Collection Activities: Proposed Collection; Comment Request; Notice of Agency Information Collection Activities for Tribal Lands Hazardous Waste Sites Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Tribal Lands Hazardous Waste Sites Survey, EPA ICR Number 2059.01. Before submitting the ICR to OMB for review and approval, EPA is soliciting comments on specific aspects of the proposed information collection as described below.

DATES: Comments must be submitted on or before April 2, 2002.

ADDRESSES: Send comments to Kirby Biggs, Program Analyst, Office of Emergency and Remedial Response, U.S. EPA, Mail Code 5204G, 1200 Pennsylvania Avenue, NW., Washington, DC 20460.

FOR FURTHER INFORMATION CONTACT: Kirby Biggs, tel. (703) 308-8506, e-mail: Biggs.Kirby@epa.gov

SUPPLEMENTARY INFORMATION: Affected entities: Entities potentially affected by this action are those which are officials or staff of tribal environmental departments or, otherwise, the environmental contact person for an Indian tribe.

Title: Tribal Lands Hazardous Waste Sites Survey (EPA ICR No. 2059.01.)

Abstract: The U.S. Environmental Protection Agency is conducting a study to detect and assess potential hazards to tribal communities from hazardous substances at contaminated sites in or near Indian Country. EPA will survey federally recognized tribes to identify sites that fall under the Comprehensive Environmental Response, Compensation and Liability Act (CERCLA), sites regulated under the Resource Conservation and Recovery Act (RCRA), and federal facility sites that are suspected of having an impact on human health and the environment in or near Indian lands.

This information will serve to inform EPA of the extent and location of sites potentially affecting Indian tribes and those sites of concern to the tribes. The inventory and potential risks to Indian Country will provide EPA with vital information regarding assessment of hazardous substances on and potential risks to Indian tribes from these sites. Tribal participation with the survey is voluntary.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The estimated reporting and record keeping burden for this collection is estimated to average two hours thirty minutes per response. The estimated number of respondents is 550 and the total annual hour burden is 1,375 hours. The frequency of response is once.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 24, 2002.
David Evans,
Director, State, Tribal and Site Investigation Center, Office Of Emergency and Remedial Response, Office of Solid Waste and Emergency Response.

[FR Doc. 02-2510 Filed 1-31-02; 8:45 am]

BILLING CODE 6560-50-P